NATIONAL AERONAUTICS AND SPACE ADMINISTRATION

[Notice: (17-050)]

Aerospace Safety Advisory Panel; Meeting

AGENCY: National Aeronautics and Space Administration (NASA).

ACTION: Notice of meeting.

SUMMARY: In accordance with the Federal Advisory Committee Act, as amended, the National Aeronautics and Space Administration (NASA) announces a meeting of the Aerospace Safety Advisory Panel.

DATES: Thursday, July 20, 2017, 11:00 a.m.-12:30 p.m., EDT.

ADDRESSES: NASA Headquarters, Program Review Center, Room 9H40, 300 E Street SW., Washington, DC 20546.

FOR FURTHER INFORMATION CONTACT: Ms. Carol Hamilton, Executive Director, Aerospace Safety Advisory Panel, NASA Headquarters, Washington, DC 20546, (202) 358-1857 or carol.j.hamilton@nasa.gov.

SUPPLEMENTARY INFORMATION: The Aerospace Safety Advisory Panel (ASAP) will hold its Third Quarterly Meeting for 2017. This meeting is pursuant to carrying out its statutory duties for which the Panel reviews, identifies, evaluates, and advises on those program activities, systems, procedures, and management activities that can contribute to program risk. Priority is given to those programs that involve the safety of human flight.

The agenda will include:

—Updates on the Exploration Systems Development

—Updates on the Commercial Crew Program

—Updates on the International Space Station Program

The meeting will be open to the public up to the seating capacity of the room. Seating will be on a first-come basis. This meeting is also available telephonically. Any interested person may dial the toll access number 1-210-234-0044 or the toll free access number 1-888-790-3721, and then the numeric participant passcode: 2453604 followed by the # sign. Attendees will be requested to sign a register and to comply with NASA Headquarters security requirements, including the presentation of a valid picture ID before receiving access to NASA Headquarters. Due to the Real ID Act, Public Law 109-13, any attendees with driver's licenses issued from non-compliant states/territories must present a second form of ID [Federal employee badge; passport; active military identification card; enhanced driver's license; U.S. Coast Guard Merchant Mariner card; Native American tribal document; school identification accompanied by an item from LIST C (documents that establish employment authorization) from the “List of the Acceptable Documents” on Form I-9]. Non-compliant states/territories are: Minnesota and Missouri. Foreign nationals attending this meeting are required to provide a copy of their passport and visa in addition to providing the following information no less than 7 days prior to the meeting: Full name; gender; date/place of birth; citizenship; visa information (number, type, expiration date); passport information (number, country, expiration date); employer/affiliation information (name of institution, address, country, telephone); title/position of attendee; and home address to Ms. Carol Hamilton via email at carol.j.hamilton@nasa.gov. To expedite admittance, U.S. citizens and Permanent Residents (green card holders) are requested to provide full name and citizenship status no less than 3 working days prior to the meeting to Ms. Carol Hamilton via email at carol.j.hamilton@nasa.gov. This meeting is taking place with less than 15 calendar days notice due to schedule conflicts that impacted the final agenda. It is imperative that the meeting be held on this date to accommodate the scheduling priorities of the key participants.

Patricia D. Rausch,
Advisory Committee Management Officer, National Aeronautics and Space Administration.

[FR Doc. 2017-14501 Filed 7-10-17; 8:45 am]

BILLING CODE 7510-13-P